DEPARTMENT OF LABOR

Employment and Training Administration

[TA-W-37,919]

Guess?, Inc., Los Angeles, California; Notice of Negative Determination Regarding Application for Reconsideration

By application dated December 1, 2000, the petitioners request administrative reconsideration of the Department's negative determination regarding eligibility to apply for Trade Adjustment Assistance (TAA), applicable to workers and former workers of the subject firm. The denial notice was signed on November 3, 2000, and published in the Federal Register on December 6, 2000 (65 FR 76289).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The November 3, 2000, denial of TAA for workers of Guess?, Inc., was based on the finding the workers separated from employment at the subject firm in Los Angeles, California, were engaged in distribution of apparel and not in the production of an article as required in the group eligibility requirements of the Trade Act of 1974.

The petitioners, in the application for reconsideration, state that some of the distribution workers were formerly employed in production operations (cutting, samples and embroidery). Workers were transferred to distribution before being separated from employment.

Although not elaborated on in the negative determination, sales and production at Guess?, Inc., Los Angeles, California, increased in the relevant time period. Consequently, there was no basis for further investigation.

Conclusion

After review of the application and investigative findings, I conclude that there has been no error or misinterpretation of the law or of the facts which would justify reconsideration of the Department of Labor's prior decision. Accordingly, the application is denied.

Signed at Washington, DC this 18th day of December 2000.
Linda G. Poole,
Certifying Officer, Division of Trade Adjustment Assistance.

[FR Doc. 00-33061 Filed 12-27-00; 8:45 am]

BILLING CODE 4510-30-M